FEDERAL COMMUNICATIONS COMMISSION

Radio Broadcasting Services; AM or FM Proposals To Change The Community of License

AGENCY: Federal Communications Commission.

ACTION: Notice.

SUMMARY: The following applicants filed AM or FM proposals to change the community of license: 1TV.COM, INC., Station KIKO, Facility ID 72477, BP-20100824ABA, From MIAMI, AZ, To SUPERIOR, AZ; AIRWAVES FOR JESUS, INC., Station NONE, Facility ID 176879, BMPED-20100831AAQ, From CRAIGSVILLE, WV, To WEBSTER SPRINGS, WV; ENTRAVISION HOLDINGS, LLC, Station KVVA-FM, Facility ID 1331, BPH-20100817ABA, From APACHE JUNCTION, AZ, To SUN LAKES, AZ; MEDIA MINISTRIES, INC., Station KLIC, Facility ID 22171, BP-20100903ABU, From MONROE, LA, To RICHWOOD, LA; PMB BROADCASTING, LLC, Station WKCN, Facility ID 54670, BPH-20100908ACE, From LUMPKIN, GA, To FORT BENNING SOUTH, GA; SOUTHWEST FM BROADCASTING CO., INC., Station KAHM, Facility ID 61510, BPH-20100813BHN, From PRESCOTT, AZ, To SPRING VALLEY, AZ.

DATES: Comments may be filed through December 14, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission
James D. Bradshaw,
Deputy Chief, Audio Division, Media Bureau.

[FR Doc. 2010-25928 Filed 10-14-10; 8:45 am]

BILLING CODE 6712-01-P